DEPARTMENT OF HEALTH AND HUMAN SERVICES

Office Of Refugee Resettlement

[CFDA Number 93.583]

Notice of the Award of a Single-Source Program Expansion Supplement Grant to Catholic Charities of Southern Nevada in Las Vegas, NV, a Wilson-Fish Project

AGENCY: Office of Refugee Resettlement, ACF, HHS.

ACTION: This announces the award of a single-source expansion supplement grant to Catholic Charities of Southern Nevada in Las Vegas, NV, by the Office of Refugee Resettlement, a program of the Administration for Children and Families.

SUMMARY: The Office of Refugee Resettlement (ORR) announces the award of a single-source program expansion supplement grant to Catholic Charities of Southern Nevada, Las Vegas, NV, in the amount of $437,650 under the Wilson-Fish Program. The supplemental award will allow the grantee to provide cash and medical assistance to arriving refugees and others who are also eligible for refugee benefits through the remainder of Federal Fiscal Year (FY) 2012. The expansion supplement award will enable the grantee to provide assistance to a higher number of clients than originally planned.

DATES: September 30, 2011 through September 29, 2012.

FOR FURTHER INFORMATION CONTACT: Carl Rubenstein, Wilson-Fish Coordinator, Office of Refugee Resettlement, Aerospace Building, 8th Floor West, 901 D Street SW., Washington, DC 20447. Telephone: 202-205-5933. Email: carl.rubenstein@acf.hhs.gov.

SUPPLEMENTARY INFORMATION: The Wilson-Fish program is intended to be an alternative to the traditional State administered refugee assistance program for providing integrated assistance (cash and medical) and services (employment, case-management, ESL and other social services) to refugees, asylees, Amerasian Immigrants, Cuban and Haitian Entrants, Trafficking Victims and Iraqi/Afghani SIV's in order to increase their prospects for early employment and self-sufficiency, reduce their level of welfare dependence and promote coordination among voluntary resettlement agencies and service providers. In addition, the Wilson-Fish program enables ORR to ensure that refugee assistance programs exist in every State where refugees are resettled.

Statutory Authority: The Refugee Act of 1980 as amended, Wilson-Fish Amendment, Pub. L. 98-473, 8 U.S.C. 1522(e)(7); section 412(e) (7) (A) of the Immigration and Nationality Act.

Eskinder Negash,
Director, Office of Refugee Resettlement.

[FR Doc. 2012-21295 Filed 8-28-12; 8:45 am]

BILLING CODE 4184-46-P